NUCLEAR REGULATORY COMMISSION

[Docket No. 50-458; NRC-2017-0141]

Entergy Operations, Inc.; River Bend Station, Unit 1; Correction

AGENCY: Nuclear Regulatory Commission.

ACTION: License renewal application; opportunity to request a hearing and to petition for leave to intervene; correction.

SUMMARY: The U.S. Nuclear Regulatory Commission (NRC) is correcting a notice that was published in the Federal Register (FR) on August 14, 2017, regarding the NRC's consideration of an application for the renewal of operating license NPF-47, which authorizes Entergy Operations, Inc., (the applicant), to operate River Bend Station, Unit 1 (RBS). The renewed license would authorize the applicant to operate RBS for an additional 20 years beyond the period specified in the current license. The current operating license for RBS expires at midnight on August 29, 2025. This action is necessary to correct the location where local residents can view a paper copy of the license renewal application.

DATES: The correction is effective September 6, 2017.

ADDRESSES: Please refer to Docket ID NRC-2017-0141 when contacting the NRC about the availability of information regarding this document. You may obtain publicly-available information related to this document using any of the following methods:

• Federal Rulemaking Web site: Go to http://www.regulations.gov and search for Docket ID NRC-2017-0141. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The License Renewal Application is available in ADAMS under Accession No. ML17153A282.

• NRC's PDR: You may examine and purchase copies of public documents at the NRC's PDR, Room O1-F21, One White Flint North, 11555 Rockville Pike, Rockville, Maryland 20852.

FOR FURTHER INFORMATION CONTACT: Emmanuel Sayoc, Office of Nuclear Reactor Regulation, U.S. Nuclear Regulatory Commission, Washington DC 20555-0001; telephone: 301-415-4084; email: Emmanuel.Sayoc@nrc.gov.

SUPPLEMENTARY INFORMATION: In the FR on August 14, 2017, in FR Doc. 2017-17125 on page 37910, in the third column, second full paragraph, lines four through six, replace “St. Charles Parish Library—East Regional Library, 160 W. Campus Drive, Destrehan, Louisiana 70047” with “West Feliciana Parish Library, 5114 Burnett Road, St. Francisville, Louisiana 70775.”

Dated at Rockville, Maryland, this 30th day of August, 2017.
For the Nuclear Regulatory Commission.
Sheldon Stuchell,
Chief, Projects Management and Guidance Branch, Division of License Renewal, Office of Nuclear Reactor Regulation.

[FR Doc. 2017-18786 Filed 9-5-17; 8:45 am]

BILLING CODE 7590-01-P